DEPARTMENT OF ENERGY

Federal Energy Regulatory Commission

[Docket No. AD04-13-000]

Assessing the State of Wind Energy in Wholesale Electricity Markets; Initial Notice of Technical Workshop

February 1, 2005.

Take notice that the staffs of Bonneville Power Administration (BPA) and the Western Electricity Coordinating Council (WECC) will participate with the staff of the Federal Energy Regulatory Commission (FERC) at a workshop on March 16-17, 2005, in Portland, Oregon. Further logistical details, including an agenda for the workshop, will be forthcoming. The workshop is scheduled to begin at 9 a.m. and end at approximately 5 p.m. (PST) each day.

The goal of the workshop is to work with interested market participants to develop clear definitions for additional wholesale electric transmission services, e.g., conditional firm transmission service, develop applicable pro forma tariff language that could be included in public utilities' open access transmission tariffs, and address attendant issues.

The workshop is open for the public to attend, and preregistration is not required. There will be no on-line registration established for this event; on-site attendees may simply register on the day of the event.

Capitol Connection offers the opportunity for remote listening of the conference via the Internet or a Phone Bridge Connection for a fee. Interested persons should make arrangements as soon as possible by visiting the Capitol Connection Web site at http://www.capitolconnection.gmu.edu and clicking on “FERC.” If you have any questions contact David Reininger or Julia Morelli at the Capitol Connection (703-993-3100).

For more information about the conference, please contact Jignasa Gadani at 202-502-8608, jignasa.gadani@ferc.gov.

Magalie R. Salas,
Secretary.

[FR Doc. E5-509 Filed 2-7-05; 8:45 am]

BILLING CODE 6717-01-P